DEPARTMENT OF TRANSPORTATION

Federal Aviation Administration

14 CFR Part 39

[Docket No. FAA-2013-0632; Directorate Identifier 2013-NM-045-AD; Amendment 39-17752; AD 2014-03-14]

RIN 2120-AA64

Airworthiness Directives; Airbus Airplanes

AGENCY: Federal Aviation Administration (FAA), Department of Transportation (DOT).

ACTION: Final rule.

SUMMARY: We are adopting a new airworthiness directive (AD) for all Airbus Model A330-200 and -300 series airplanes, and Model A340-200, -300, -500, and -600 series airplanes. This AD was prompted by results from fuel system reviews conducted by the airplane manufacturer. This AD requires removing bulb-type maintenance lights; installing a drain mast on certain airplanes; and installing muffs on connecting bleed elements on certain airplanes. We are issuing this AD to prevent ignition sources inside fuel tanks, which, in combination with flammable fuel vapors, could result in fuel tank explosions and consequent loss of the airplane.

DATES: This AD becomes effective March 26, 2014.

The Director of the Federal Register approved the incorporation by reference of certain publications listed in this AD as of March 26, 2014.

ADDRESSES: You may examine the AD docket on the Internet at http://www.regulations.gov/#!docketDetail;D=FAA-2013-0632; or in person at the Docket Management Facility, U.S. Department of Transportation, Docket Operations, M-30, West Building Ground Floor, Room W12-140, 1200 New Jersey Avenue SE., Washington, DC.

For service information identified in this AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com. You may view this referenced service information at the FAA, Transport Airplane Directorate, 1601 Lind Avenue SW., Renton, WA. For information on the availability of this material at the FAA, call 425-227-1221.

FOR FURTHER INFORMATION CONTACT: Vladimir Ulyanov, Aerospace Engineer, International Branch, ANM-116, Transport Airplane Directorate, FAA, 1601 Lind Avenue SW., Renton, WA 98057-3356; telephone 425-227-1138; fax 425-227-1149.

SUPPLEMENTARY INFORMATION:

Discussion

We issued a notice of proposed rulemaking (NPRM) to amend 14 CFR part 39 by adding an AD that would apply to all Airbus Model A330-200 and -300 series airplanes, and Model A340-200, -300, -500, and -600 series airplanes. The NPRM published in the Federal Register on July 31, 2013 (78 FR 46306). The NPRM was prompted by results from fuel system reviews conducted by the airplane manufacturer. The NPRM proposed to require removing bulb-type maintenance lights; installing a drain mast on certain airplanes; and installing muffs on connecting bleed elements on certain airplanes. We are issuing this AD to prevent ignition sources inside fuel tanks, which, in combination with flammable fuel vapors, could result in fuel tank explosions and consequent loss of the airplane.

The European Aviation Safety Agency (EASA), which is the Technical Agent for the Member States of the European Community, has issued EASA Airworthiness Directive 2013-0033, dated February 19, 2013 (referred to after this the Mandatory Continuing Airworthiness Information, or “the MCAI”), to correct an unsafe condition for the specified products. The MCAI states:

[Subsequent to accidents involving fuel tank system explosions in flight and on ground], the FAA published Special Federal Aviation Regulation (SFAR) 88 [66FR 23086, May 7, 2001], and the Joint Aviation Authorities (JAA) published Interim Policy INT/POL/25/12.

In response to these regulations, a global design review conducted by Airbus on the A330 and A340 type design Section 19, which is a flammable fluid leakage zone and a zone adjacent to a fuel tank, highlighted potential deviations. The specific identified cases were that drainage is inefficient in flight on A340-500/-600 aeroplanes, maintenance lights are not qualified explosion proof, and hot surfaces may exist on bleed system during normal/failure operations.

This condition, if not corrected, in combination with a fuel leak generating flammable vapours in the area, could result in a fuel tank explosion and consequent loss of the aeroplane.

For the reasons described above, this [EASA] AD requires removal of bulb type maintenance lights for all aeroplanes, installation of the drain mast between Frame (FR) 80 and FR83 for A340-500/-600, and installation of muffs on connecting bleed elements to minimize hot surfaces on A330 and A340-200/-300.

You may examine the MCAI in the AD docket on the Internet at http://www.regulations.gov/#!documentDetail;D=FAA-2013-0632-0002.

Comments

We gave the public the opportunity to participate in developing this AD. We have considered the comments received. The following presents the comments received on the proposal (78 FR 46306, July 31, 2013) and the FAA's response to each comment.

Request To Require New Service Information

Airbus requested that we specify the use of Revision 01 of Airbus Mandatory Service Bulletin A340-36-4035, dated September 24, 2013, instead of the original issue of Airbus Mandatory Service Bulletin A340-36-4035, dated September 18, 2012. Airbus stated that since the issuance of the MCAI, it identified an inversion of configurations in Airbus Mandatory Service Bulletin A340-36-4035. Airbus stated that it determined that this inversion had an impact on the NPRM (78 FR 46306, July 31, 2013) intent and it agreed with the EASA that the MCAI needs to be superseded to mandate Revision 01 of Airbus Mandatory Service Bulletin A340-36-4035, dated September 24, 2013.

We agree with the commenter. Airbus Mandatory Service Bulletin A340-36-4035, Revision 01, dated September 24, 2013, introduces corrections to part numbers for two insulation sleeves between frames 83 and 84 in configurations 002, 003, and 005. This revision also adds an additional work task for configurations 002, 003, and 005 to replace two insulation sleeves between frame 83 and 84, and changes the insulation sleeves kit allocation for configurations 002, 003, and 005 to allocate the correct kit to every configuration.

Even though Airbus Mandatory Service Bulletin A340-36-4035, Revision 01, dated September 24, 2013, introduces additional work it does not affect United States operators since there are no Model A340 airplanes registered in the United States.

We have changed paragraph (h) of this final rule to reference Airbus Mandatory Service Bulletin A340-36-4035, Revision 01, dated September 24, 2013.

Request To Reference Certain Service Bulletins

Airbus noted that we reference Airbus Service Bulletin A340-33-5007 in Note 1 to paragraph (g) of the NPRM (78 FR 46306, July 31, 2013). Airbus stated that it is working on the issuance of equivalent service bulletins, and requested that we reference these service bulletins.

We disagree with the commenter's request. The referenced service information is not available. To delay this action would be inappropriate, since we have determined that an unsafe condition exists and that actions specified in this final rule must be conducted to ensure continued safety. We might consider additional rulemaking when new service information is made available. We have not changed this final rule in this regard.

Request To Remove Certain Credit for Previous Actions

Airbus requested that we remove the credit given for actions accomplished in accordance with Airbus Service Bulletin A330-36-3037, dated September 23, 2011, which is referenced in paragraph (k)(3) of the NPRM (78 FR 46306, July 31, 2013). Airbus stated that it was on purpose that no credit was provided in the MCAI for this service bulletin.

We agree with the commenter's request. Airbus Service Bulletin A330-36-3037, Revision 01, dated January 24, 2013, introduces corrections to accomplish certain procedures that are used to comply with the intent of this final rule. We have removed the reference to Airbus Service Bulletin A330-36-3037, dated September 23, 2011, in paragraph (k)(3) of this final rule.

Request To Use Alternative Materials

Delta Airlines (DAL) requested that we provide authorization to use alternative materials to those listed in Airbus Mandatory Service Bulletin A330-33-3041, Revision 01, dated July 10, 2012: and Airbus Mandatory Service Bulletin A330-36-3040, Revision 01, dated November 26, 2012. DAL stated that it cannot acquire certain materials, and suggested certain alternative materials.

We disagree with the commenter's request. The use of the alternative materials proposed by the commenter to those listed in Airbus Mandatory Service Bulletin A330-33-3041, Revision 01, dated July 10, 2012; and Airbus Mandatory Service Bulletin A330-36-3040, Revision 01, dated November 26, 2012; is not authorized by the airplane manufacturer. Under the provisions of paragraph (l) of this final rule, however, we will consider requests for approval of use of other materials as alternative methods of compliance. We have not changed this final rule in this regard.

Conclusion

We reviewed the available data, including the comments received, and determined that air safety and the public interest require adopting this AD with the changes described previously and minor editorial changes. We have determined that these changes:

• Are consistent with the intent that was proposed in the NPRM (78 FR 46306, July 31, 2013) for correcting the unsafe condition; and

• Do not add any additional burden upon the public than was already proposed in the NPRM (78 FR 46306, July 31, 2013).

Costs of Compliance

We estimate that this AD affects 43 airplanes of U.S. registry.

We estimate the following costs to comply with this AD:

Estimated Costs
Action | Labor cost | Parts cost | Cost per product | Cost on U.S. operators
Installation | Up to 21 work-hours × $85 per hour = $1,785 | Up to $5,219 | Up to $7,004 | Up to $301,172.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

Examining the AD Docket

You may examine the MCAI in the AD docket on the Internet at http://www.regulations.gov/#!docketDetail;D=FAA-2013-0632; or in person at the Docket Management Facility between 9 a.m. and 5 p.m., Monday through Friday, except Federal holidays. The AD docket contains this AD, the regulatory evaluation, any comments received, and other information. The street address for the Docket Operations office (telephone (800) 647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2014-03-14 Airbus: Amendment 39-17752. Docket No. FAA-2013-0632; Directorate Identifier 2013-NM-045-AD.

(a) Effective Date

This airworthiness directive (AD) becomes effective March 26, 2014.

(b) Affected ADs

None.

(c) Applicability

This AD applies to the Airbus airplanes, certificated in any category, specified in paragraphs (c)(1) and (c)(2) of this AD, all manufacturer serial numbers.

(1) Airbus Model A330-201, -202, -203, -223, -243, -301, -302, -303, -321, -322, -323, -341, -342, and -343 airplanes.

(2) Airbus Model A340-211, -212, -213, -311, -312, -313, -541, and -642 airplanes.

(d) Subject

Air Transport Association (ATA) of America Code 26, Fire protection; 33, Lights; 36, Pneumatic; 53, Fuselage.

(e) Reason

This AD results from fuel system reviews conducted by the airplane manufacturer. We are issuing this AD to prevent ignition sources inside fuel tanks, which, in combination with flammable fuel vapors, could result in fuel tank explosions and consequent loss of the airplane.

(f) Compliance

You are responsible for having the actions required by this AD performed within the compliance times specified, unless the actions have already been done.

(g) Maintenance Light Removal

Except airplanes on which Airbus Modification 56739 has been incorporated in production: Within 26 months after the effective date of this AD, remove the maintenance lights, in accordance with the Accomplishment Instructions of the applicable Airbus service information specified in paragraphs (g)(1), (g)(2), and (g)(3) of this AD.

(1) Airbus Mandatory Service Bulletin A330-33-3041, Revision 01, dated July 10, 2012 (for Model A330 series airplanes).

(2) Airbus Mandatory Service Bulletin A340-33-4026, Revision 01, dated July 10, 2012 (for Model A340-200 and -300 series airplanes).

(3) Airbus Mandatory Service Bulletin A340-33-5006, dated January 3, 2012 (for Model A340-500 and -600 series airplanes).

Note 1 to paragraph (g) of this AD: For Model A340-500 and -600 series airplanes, Airbus has issued Airbus Service Bulletin A340-33-5007 to introduce halogen type lights which are qualified as explosion proof and that can be installed (at operators' discretion) after removal of the non-explosion proof lights required by paragraph (g) of this AD.

(h) Insulation Muff Installation

For Model A330-200 and -300 series airplanes, and Model A340-200 and -300 series airplanes, except those airplanes on which Airbus Modification 52260 has been incorporated in production: Within 26 months after the effective date of this AD, install insulation muffs on connecting auxiliary power unit bleed air duct, in accordance with the Accomplishment Instructions of the applicable Airbus service information specified in paragraphs (h)(1), (h)(2), and (h)(3) of this AD.

(1) Airbus Service Bulletin A330-36-3038, dated January 16, 2012, for Model A330 series airplanes on which Airbus Service Bulletin A330-36-3032 has been incorporated.

(2) Airbus Mandatory Service Bulletin A330-36-3040, Revision 01, dated November 26, 2012, for Model A330 series airplanes on which Airbus Service Bulletin A330-36-3032 has not been incorporated.

(3) Airbus Mandatory Service Bulletin A340-36-4035, Revision 01, dated September 24, 2013, for Model A340 series airplanes.

(i) Alternative Action to Paragraph (h) of This AD

For Model A330 series airplanes on which the modification described in Airbus service information A330-36-3032 has not been incorporated, and for Model A340 series airplanes: Doing the bleed leak detection loop modification of the auxiliary power unit (APU), in accordance with the Accomplishment Instructions of the applicable Airbus Service Bulletin specified in paragraphs (i)(1) and (i)(2) of this AD, is an acceptable alternative to the actions required by paragraph (h) of this AD, provided the modification is accomplished within 26 months after the effective date of this AD.

(1) Airbus Service Bulletin A330-36-3037, Revision 01, dated January 24, 2013.

(2) Airbus Service Bulletin A340-36-4033, Revision 01, dated January 28, 2013.

(j) Drain Mast Installation

For Model A340-500 and -600 series airplanes, except those on which Airbus Modification 54636 or 54637 has been incorporated in production: Within 26 months after the effective date of this AD, install a drain mast between frame (FR) 80 and FR 83, in accordance with the Accomplishment Instructions of Airbus Mandatory Service Bulletin A340-53-5031, Revision 02, dated August 3, 2011.

(k) Credit for Previous Actions

(1) This paragraph provides credit for actions required by paragraph (g) of this AD, if those actions were performed before the effective date of this AD using Airbus Mandatory Service Bulletin A330-33-3041, dated January 3, 2012; or Airbus Mandatory Service Bulletin A340-33-4026, dated January 3, 2012; as applicable; which are not incorporated by reference in this AD.

(2) This paragraph provides credit for actions required by paragraph (h) of this AD, if those actions were performed before the effective date of this AD using Airbus Mandatory Service Bulletin A330-36-3040, dated September 18, 2012, which is not incorporated by reference in this AD.

(3) This paragraph provides credit for actions required by paragraph (i) of this AD, if those actions were performed before the effective date of this AD using Airbus Service Bulletin A340-36-4033, dated September 23, 2011, which is not incorporated by reference in this AD.

(4) This paragraph provides credit for actions required by paragraph (j) of this AD, if those actions were performed before the effective date of this AD using Airbus Service Bulletin A340-53-5031, dated July 31, 2006; or Airbus Service Bulletin A340-53-5031, Revision 01, dated January 10, 2008; as applicable; which are not incorporated by reference in this AD.

(l) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, WA 98057-3356; telephone 425-227-1138; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer, use these actions if they are FAA-approved. Corrective actions are considered FAA-approved if they were approved by the State of Design Authority (or its delegated agent, or by the Design Approval Holder with a State of Design Authority's design organization approval). For a repair method to be approved, the repair approval must specifically refer to this AD. You are required to ensure the product is airworthy before it is returned to service.

(m) Related Information

(1) Refer to Mandatory Continuing Airworthiness Information (MCAI) The European Aviation Safety Agency Airworthiness Directive 2013-0033, dated February 19, 2013, for related information. You may examine the MCAI in the AD docket on the Internet http://www.regulations.gov/#!documentDetail;D=FAA-2013-0632-0002.

(2) Service information identified in this AD that is not incorporated by reference may be obtained at the addresses specified in paragraphs (n)(4) and (n)(5) of this AD.

(n) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Mandatory Service Bulletin A330-33-3041, Revision 01, dated July 10, 2012.

(ii) Airbus Mandatory Service Bulletin A330-36-3040, Revision 01, dated November 26, 2012.

(iii) Airbus Mandatory Service Bulletin A340-33-4026, Revision 01, dated July 10, 2012.

(iv) Airbus Mandatory Service Bulletin A340-33-5006, dated January 3, 2012.

(v) Airbus Mandatory Service Bulletin A340-36-4035, Revision 01, dated September 24, 2013.

(vi) Airbus Mandatory Service Bulletin A340-53-5031, Revision 02, dated August 3, 2011.

(vii) Airbus Service Bulletin A330-36-3037, Revision 01, dated January 24, 2013.

(viii) Airbus Service Bulletin A330-36-3038, dated January 16, 2012.

(ix) Airbus Service Bulletin A340-36-4033, Revision 01, dated January 28, 2013.

(3) For service information identified in this AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on January 31, 2014.
John P. Piccola,
Acting Manager, Transport Airplane Directorate, Aircraft Certification Service.

[FR Doc. 2014-02994 Filed 2-18-14; 8:45 am]

BILLING CODE 4910-13-P